DEPARTMENT OF TRANSPORTATION

Federal Aviation Administration

Notice of Availability of the Draft Programmatic Environmental Assessment (PEA) for FAA-Recognized Identification Areas (FRIAs)

AGENCY: Federal Aviation Administration (FAA), DOT.

ACTION: Notice of availability; request for comments.

SUMMARY: The Federal Aviation Administration (FAA) announces that the Draft Programmatic Environmental Assessment (PEA) for FAA-Recognized Identification Areas (FRIAs) is available for public review and comment.

DATES: Send comments on or before May 3, 2023.

FOR FURTHER INFORMATION CONTACT: For questions concerning this action, contact Mike Millard, Aviation Safety Inspector/Environmental Specialist, Flight Standards, General Aviation Operations Branch, AFS-830; telephone 1-844-359-6981; email 9-FAA-Drone-Environmental@faa.gov.

ADDRESSES: Send comments with the subject line, “Public Comment on Draft FRIA PEA” on all submitted correspondence using the following method. Email comments to 9-FAA-Drone-Environmental@faa.gov.

Privacy: The FAA will post all comments it receives, without change, including any personal information the commenter provides, to the Final PEA, along with the FAA's response to those comments. For additional information, the applicable system of records notice (SORN), DOT/ALL-14, 73 FR 3316 (Jan. 17, 2008), can be reviewed at https://www.govinfo.gov/content/pkg/FR-2008-01-17/pdf/E8-785.pdf.

SUPPLEMENTARY INFORMATION:

I. Background

The Draft PEA analyzes and discloses the potential environmental impacts associated with the establishment of FRIAs, pursuant to the National Environmental Policy Act. FRIAs may be established in accordance with 14 CFR part 89. A FRIA is a defined geographic area where unmanned aircraft can be flown without remote identification equipment. Both the unmanned aircraft and the pilot must be located within the FRIA's boundaries throughout the operation. In addition, the pilot of the unmanned aircraft must be able to see it at all times throughout the duration of the flight. Only FAA-recognized Community Based Organizations and educational institutions such as primary and secondary schools, trade schools, colleges, and universities are eligible to request the establishment of a FRIA. If the FAA approves the establishment of a FRIA, the approval will be valid for 48 calendar months.

The environmental impacts of approving these limited, location-specific areas for the operations of unmanned aircraft have been considered in a manner consistent with the provisions of the National Environmental Policy Act (NEPA), as amended (42 U.S.C. 4321-4347), the regulations of the Council on Environmental Quality (40 CFR parts 1500-1508), and FAA Order 1050.1F, Environmental Impacts: Policies and Procedures.

A Draft PEA has been prepared and, based on this analysis, the FAA has preliminarily determined there will not be a significant impact to the human environment. As a result, an Environmental Impact Statement (EIS) has not been initiated (40 CFR 1501.6). The FAA intends for this PEA to create efficiencies by establishing a framework that can be used for “tiering,” where appropriate, to project-specific actions that require additional analysis. As decisions on specific applications are made, to the extent additional NEPA analysis is required, environmental review will be conducted to supplement the analysis set forth in this PEA.

The Draft PEA is available for review online at the following link: https://www.faa.gov/uas/advanced_operations/nepa_and_drones.

Comments Invited

The FAA invites interested stakeholders to submit comments on the Draft PEA, as specified in the ADDRESSES section of this Notice. Commenters should include the subject line, “Public Comment on Draft FRIA PEA” on all comments submitted to the FAA. All comments must be provided in English.

The FAA will accept comments in Word, PDF, or email body. No business proprietary information, copyrighted information, or personally identifiable information should be submitted in response to this request. Please be aware that comments submitted may be posted on a Federal website or otherwise released publicly.

The most helpful comments reference a specific recommendation, explain the reason for any recommended change, and include supporting information. The FAA will consider all comments received on or before the closing date. The FAA will also consider late filed comments if it is possible to do so without incurring expense or delay.

Issued in Washington, DC.
David M. Menzimer,
Manager, General Aviation Operations Branch, General Aviation and Commercial Division, Office of Safety Standards, Flight Standards Service.

[FR Doc. 2023-06805 Filed 3-31-23; 8:45 am]

BILLING CODE 4910-13-P